DEPARTMENT OF THE INTERIOR

Office of the Secretary

Notice of Proposed Information Collection

AGENCY: Office of the Secretary, Take Pride in America Program.

ACTION: Notice and request for comments.

SUMMARY: A proposal to extend the collection of information listed below (OMB Control Number 1093-0004) has been submitted to the Office of Management and Budget (OMB) for approval under the provisions of the Paperwork Reduction Act (44 U.S.C. Chapter 35). Public comments on this submission are solicited.

DATES: OMB has up to 60 days to approve or disapprove the information collection, but may respond after 30 days. Therefore, public comments should be submitted to OMB by February 26, 2007, in order to be assured of consideration.

ADDRESSES: Send your written comments to the Office of Management and Budget, Office of Information and Regulatory Affairs, Attention, Department of the Interior Desk Officer, by fax to 202-395-6566, or by e-mail to oira_docket@omb.eop.gov. Please send a copy of your written comments to the Office of the Secretary, Information Collection Clearance Officer, Sue Ellen Sloca, 1951 Constitution Avenue, NW., MS 120 SIB, Washington, DC 20240, or via e-mail to sue_ellen_sloca@nbc.gov. Individuals providing comments should reference OMB Control Number 1093-0004, “Take Pride in America National Awards Application/Nomination Process.”

FOR FURTHER INFORMATION CONTACT: To request more information on this proposed information collection or to obtain a copy of the proposal and associated collection instrument, please write to the above address, or call Sue Ellen Sloca, on 202-208-6045, or e-mail her on sue_ellen_sloca@nbc.gov.

SUPPLEMENTARY INFORMATION:

I. Abstract

Office of Management and Budget (OMB) regulations at 5 CFR 1320, which implement the Paperwork Reduction Act of 1995 (Pub. L. 104-13), require that interested members of the public and affected agencies have an opportunity to comment on information collection and recordkeeping activities (see 5 CFR 1320.8 (d)). This notice identifies an existing information collection activity that the Office of the Secretary has submitted to OMB for extension.

Under the Take Pride in American Program Act (the ACT), 16 U.S.C. Sec 46-01-4608, the Secretary of the Interior is to: (1) “conduct a national awards program to honor those individuals and entities which, in the opinion of the Secretary * * * have distinguished themselves in activities” under the purposes of the Act; and also to (2) “establish and maintain a public awareness campaign in cooperation with public and private organizations and individuals—(A) to install in the public the importance of the appropriate use of, and appreciation for Federal, State and local lands, facilities, and natural and cultural resources; (B) to encourage an attitude of stewardship and responsibility towards these lands, facilities, and resources; and (C) to promote participation by individuals, organizations, and communities of a conservation ethic in caring for these lands, facilities, and resources.” The Act states that “[t]he Secretary is authorized * * * generally to do any and all lawful acts necessary or appropriate to further the purposes of the TPIA Program.”

If this information were not collected from the public, Take Pride in America (TPIA) awards would be limited to individuals and organizations nominated by Federal agencies based on projects within their sphere of influence. This would effectively block many worthy individuals and organizations from being considered for these awards. The TPIA program was re-activated on December 10, 2001 with the stated intent of honoring the best in the nation, without restriction. It would reflect poorly on the Department and on the President if only volunteers to Federal agencies could be honored for their service to America.

II. Data

(1) Title: Take Pride in America National Awards, Application/Nomination Process.

OMB Control Number: 1093-0004.

Current Expiration Date: 01/31/2007.

Type of Review: Information Collection: Renewal.

Affected Entities: Individuals or households, businesses and other for profit institutions, not-for-profit institutions, State, Local, and Tribal Governments.

Estimated annual number of public respondents: 74.

Frequency of response: Annual.

(2) Annual reporting and record keeping burden.

Estimated number of public responses annually: 174.

Estimated burden per response: 1 hour.

Total annual reporting: 174 hours.

(3) Description of the need and use of the information: The statutorily-required information is needed to provide the Office of the Secretary with a vehicle to collect the information needed to include individuals and organizations nominated by the public in applicant pools for TPIA National Awards and to recognize them for the valuable contributions that they make in support of the stewardship of America's lands, facilities, and cultural and natural resources.

III. Request for Comments

An initial opportunity for the public to comment on the Office of the Secretary's proposal to extend this information collection was announced in the Federal Register on August 8, 2006. The Office of the Secretary received no comments in response to its 60-day notice and request for comments. The public now has a second opportunity to comment on this proposal.

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: January 19, 2007.
Gary Smith,
Director of External/Intergovernmental Affairs, Office of the Secretary.

[FR Doc. E7-1063 Filed 1-24-07; 8:45 am]

BILLING CODE 4310-RK-P